DEPARTMENT OF THE INTERIOR

Bureau of Land Management

[LLCO923000 L14400000.FR0000]

Initial Classification of Public Lands and Minerals for State Indemnity Selection, Colorado

AGENCY: Bureau of Land Management, Interior.

ACTION: Notice.

SUMMARY: The Colorado State Board of Land Commissioners (State) has filed a petition for classification and application to obtain public lands and mineral estate in lieu of lands to which the State was entitled but did not receive under its Statehood Act. The State did not receive title because the lands had been included in an Indian Reservation, Forest Reserve, National Forest, or other encumbrance at the time of statehood. Under the Taylor Grazing Act of 1934, the Bureau of Land Management (BLM) may classify sufficient public lands and/or minerals in Colorado for title transfer to the State to satisfy this obligation.

DATES: Interested parties may submit written comments regarding the classification of lands and minerals on or before November 16, 2015. Persons asserting a claim to or interest in the lands or mineral estate described in this notice will find the requirements for filing such claims in the SUPPLEMENTARY INFORMATION section.

ADDRESSES: Written comments concerning this Notice should be addressed to: State Director, Bureau of Land Management, Colorado State Office, 2850 Youngfield Street, Lakewood, CO 80215-7093.

FOR FURTHER INFORMATION CONTACT: John D. Beck, Chief, Branch of Lands and Realty; telephone 303-239-3882; email jbeck@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Sections 2275 and 2276 of the Revised Statutes, as amended (43 U.S.C. 851 and 852), provide authority for Colorado to receive title to public lands in lieu of lands to which it was entitled under Section 7 of its statehood act of March 3, 1875, where it did not receive title because those lands had otherwise been encumbered.

Section 7 of the Taylor Grazing Act of June 8, 1934, clarified by the Supreme Court in Andrus v. Utah, 446 U.S. 500 (1980), requires that such public lands and/or minerals identified for proposed transfers out of Federal ownership under this authority must first be classified. The BLM is classifying these lands and minerals pursuant to 43 CFR 2400 and Section 7 of the Act of June 8, 1934 (48 Stat. 1272, as amended), 43 U.S.C. 315(f). The final acres conveyed will be determined after further environmental analysis is completed, will be based on a dollar value, and may be less than the aggregate acreage described in this notice.

All persons who wish to submit comments on a motion of any protestant with this initial classification may present their views by any means shown under the ADDRESSES section above.

The BLM Colorado State Director will evaluate any adverse comment and issue a notice of determination to proceed with, modify, or cancel the proposed action. In the absence of any action by the BLM State Director, this initial classification action will become the final determination of the Department of the Interior.

The BLM will review any comments and may sustain, vacate, or modify this realty action. In the absence of any adverse comments, the classification of the land described in this notice will become effective on December 15, 2015.

Before including your address, phone number, email address, or other personal identifying information in your comment, you should be aware that your entire comment—including your personal identifying information—may be made publicly available at any time. While you can ask us in your comment to withhold your personal identifying information from public review, we cannot guarantee that we will be able to do so. As provided by 43 CFR 2462.1, the BLM Colorado State Director will schedule a public hearing. The BLM will announce the public hearing date 15 days prior to the hearing.

The lands and minerals included within this initial classification are in Chaffee, Custer, Dolores, Eagle, El Paso, Garfield, Grand, Huerfano, Jackson, Kiowa, La Plata, Moffat, Montezuma, Ouray, Park, Pueblo, Routt, San Miguel and Weld counties, Colorado, and are described as follows:

New Mexico Principle Meridian, Colorado

T. 44 N., R. 8 W.,

Sec. 11, lots 12 thru 14, excluding M.S. No. 9195;

Sec. 13, lots 17, 28, 30, and 31;

Sec. 14, E½SE¼.

T. 42 N., R. 13 W.,

Sec. 30, NE¼NE¼.

T. 40 N., R. 14 W.,

Sec. 6, lot 13 and NE¼SW¼.

T. 41 N., R. 14 W.,

Sec. 28, S½SW¼;

Sec. 29, SW¼, NE¼SE¼, and S½SE¼;

Sec. 30, N½SE¼;

Sec. 31 N½SE¼;

Sec. 32, N½NW¼ and SW¼NW¼.

T. 43 N., R. 14 W.,

Sec. 2, lots 1 and 2, and S½NE¼.

T. 40 N., R. 15 W.,

Sec. 1, lots 1 thru 4;

Sec. 3, lots 3 and 4;

Sec. 4, lots 1 thru 4;

Sec. 10, N½NE¼ and E½NW¼;

Sec. 11, N½, N½SW¼, and SW¼SW¼.

T. 50 N., R 8 E.,

Sec. 7, NE¼NE¼.

Sixth Principle Meridian, Colorado

T. 19 S., R. 45 W.,

Sec. 10, S½NE¼;

Sec. 11, SW¼;

Sec. 14, N½ and SE¼;

Sec. 15, NE¼.

T. 20 S., R. 47 W.,

Sec. 4, S½NW¼, SW¼, and W½SE¼;

Sec. 5;

Sec. 8, NE¼NE¼, W½NE¼, SE¼NE¼, NW¼, NE¼SW¼, and NW¼SE¼;

Sec. 9, NE¼, NW¼, N½SW¼, SE¼SW¼, and SE¼;

Sec. 10, SW¼ and SW¼SE¼;

Sec. 15, NW¼NE¼;

Sec. 22, SE¼NE¼ and E½SE¼;

Sec. 23, S½NW¼ and SW¼;

Sec. 26, W½NE¼, NW¼, N½SW¼, and NW¼SE¼;

Sec. 27, NE¼NE¼.

T. 20 S., R. 48 W.,

Sec. 10, W½SW¼;

Sec. 13, S½NW¼, SW¼, and W½SE¼;

Sec. 14, SE¼SW¼ and SE¼;

Sec. 15, W½NW¼ and NW¼SW¼;

Sec. 22, E½SE¼;

Sec. 23;

Sec. 24, NW¼NE¼, NW¼, N½SW¼, and SW¼SW¼;

Sec. 26, NE¼, NW¼, and W½SW¼;

Sec. 27, E½NE¼.

T. 18 S., R. 61 W.,

Sec. 8, SE¼SE¼;

Sec. 19, lots 3 and 4, E½SW¼, and SE¼;

Sec. 30, lots 2 thru 4, SE¼NW¼, E½SW¼, and W½SE¼;

Sec. 32.

T. 19 S., R. 61 W.,

Sec. 6;

Sec. 7, E½NE¼ and E½SE¼;

Sec. 8, W½NW¼ and W½SW¼;

Sec. 18;

Sec. 19, lots 1 thru 4, NE¼, E½NW¼, and E½SW¼;

Sec. 20;

Sec. 28, E½;

Sec. 29, W½;

Sec. 32, E½;

Sec. 33.

T. 20 S., R. 61 W.,

Sec. 4;

Sec. 5, lots 1 and 2, S½NE¼, and SE¼;

Sec. 7, lots 2 and 3, and SE¼SW¼;

Sec. 9, E½;

Sec. 18, SW¼SE¼.

T. 16 S., R. 62 W.,

Sec. 24, NW¼NW¼.

T. 17 S., R. 62 W.,

Sec.1, lot 1 and SE¼NE¼;

Sec. 9, SE¼SE¼.

T 29 S., R. 69 W.,

Sec. 31, lots 3 and 4, NE¼NE¼, NE¼NW¼, E½SW¼, and SE¼;

Sec. 32, SW¼NW¼, W½SW¼, SE¼SW¼, and SE¼SE¼.

T. 29 S., R. 70 W.,

Sec. 35, lot 1.

T. 22 S., R. 71 W.,

Sec. 5, lots 20 thru 23;

Sec. 6, lot 13;

Sec. 8, NW¼NW¼;

Sec. 17, lot 24.

T. 22 S., R. 72 W.,

Sec. 4, lots 41, 42, and 47, and NE¼SE¼, and remaining public lands in SW¼NW¼, W½SW¼, SE¼SW¼, and SW¼SE¼;

Sec. 5, remaining public lands in S½NE¼, SE¼NW¼, E½SW¼, SE¼, and NW¼SW¼;

Sec. 8, remaining public lands in SE¼SE¼;

Sec. 9, remaining public lands in W½;

Sec. 12, lot 3 and SE¼SE¼;

Sec. 16, lot 20, lots 23 thru 36, and lot 38;

Sec. 17, remaining public lands in NW¼NE¼;

Sec. 22, N½NE¼;

Sec. 26, SE¼SW¼;

Sec. 28, N½SW¼, SE¼SW¼, W½SE¼, and SE¼SE¼.

T. 11 S., R. 74 W.,

Sec. 20, NE¼;

Sec. 21, W½.

T. 12 S., R. 75 W.,

Sec. 17, SW¼;

Sec. 18, lots 1 thru 4, E½NW¼, E½SW¼, and SE¼;

Sec. 19, lots 1 and 2, N½NE¼, SW¼NE¼, and E½NW¼.

T. 12 S., R. 76 W.,

Sec. 13, E½SE¼;

Sec. 24, NE¼.

T. 13 S., R. 76 W.,

Sec. 4, lots 2 thru 4, SW¼NW¼, and NW¼SW¼;

Sec. 5;

Sec. 6, lots 6 and 7, and E½SW¼.

T. 12 S., R. 77 W.,

Sec. 23, N½SW¼ and N½SE¼;

Sec. 25, S½SE¼;

Sec. 34, NW¼SW¼.

T. 15 S., R. 78 W.,

Sec. 17, SW¼NW¼, including geothermal steam;

Sec. 18, N½SE¼ and SW¼SE¼, including geothermal steam.

T. 4 S., R. 83 W.,

Sec. 17, lots 2 and 5, NE¼SW¼, and NW¼SE¼;

Sec. 22, SE¼SE¼;

Sec. 23, lots 6 thru 8, and W½SW¼.

T. 7 S., R. 88 W.,

Sec. 7, lots 12 and 13;

Sec. 8, lot 7, SW¼NE¼, and SE¼NW¼;

Sec. 17, lots 3 and 19.

T. 7 S., R. 89 W.,

Sec. 3, lot 1, SE¼NE¼, E½NW¼SE¼, E½W½NW¼SE¼, and E½SE¼;

Sec. 12, lot 22 and W½SW¼;

Sec. 13, NW¼;

T. 5 S., R. 92 W.,

Sec. 30, W½SE¼.

T. 5 S., R. 93 W.,

Sec. 36, NW¼NE¼, N½NW¼, and NE¼SW¼.

T. 1 N, R. 76½ W.,

Sec. 1, lots 15 and 16;

Sec. 12, lots 1 thru 6, and lots 11 and 12.

T. 1 N., R 77 W.,

Sec. 12, E½NE¼ and NE¼SE¼.

T. 3 N., R. 77 W.,

Sec. 25, S½SW¼ and SW¼SE¼.

T. 4 N., R. 81 W.,

Sec. 34, W½NW¼ and NW¼SW¼.

T. 6 N., R. 81 W.,

Sec. 18, lot 5.

T. 3 N., R. 82 W.,

Sec. 26, lot 1.

T. 6 N., R. 82 W.,

Sec. 13, SE¼SE¼;

Sec. 23, N½NE¼ and SE¼NE¼.

T. 6 N., R. 84 W.,

Sec. 27, SE¼SE¼.

T. 7 N., R. 85 W.,

Sec. 17, W½NE¼.

T. 8 N., R. 85 W.,

Sec. 16, lots 4 and 5.

T. 6 N., R. 86 W.,

Sec. 33, SW¼SW¼.

T. 7 N., R. 88 W.,

Sec. 2, SE¼NW¼.

T. 8 N., R. 88 W.,

Sec. 34, lots 12 thru 15.

T. 7 N., R. 93 W.,

Sec. 36.

The areas described aggregate 23,077 acres.

The State's application requests conveyance of title to Federal mineral estate under surface owned by the State, described as follows:

Sixth Principle Meridian, Colorado

T. 9 N., R. 56 W.,

Sec. 24, SW¼.

T. 12 N., R. 56 W.,

Sec. 28, E½.

T. 11 N., R. 59 W.,

Sec. 15, NE¼.

T. 5 N., R. 61 W.,

Sec. 33, SW¼.

T. 3 N., R. 62 W.,

Sec. 1, SE¼.

T. 17 S., R. 48 W.,

Sec. 18, NW¼NE¼.

T. 21 S., R. 51 W.,

Sec. 35, NW¼SW¼ (oil and gas only).

T. 22 S., R. 52 W.,

Sec. 15, SW¼NE¼, NW¼SW¼, and NW¼SE¼ (oil and gas only).

T. 28 S., R. 69 W.,

Sec. 17, SE¼SE¼;

Sec. 20, NE¼ and NE¼NW¼;

Sec. 21, NE¼, W½NW¼, SE¼NW¼, and NE¼SE¼;

Sec. 22, W½SW¼, SE¼SW¼, and SW¼SE¼;

Sec. 27, NW¼NE¼ and NE¼NW¼.

T. 6 N., R. 79 W.,

Sec. 3, SW¼SW¼;

Sec. 4, lots 3 and 4, SW¼NE¼, S½NW¼, SW¼, and SE¼;

Sec. 5, lots 1 and 2, S½NE¼, and SE¼;

Sec. 8, N½NE¼, SE¼NE¼, and E½SE¼;

Sec. 9;

Sec. 10, W½NW¼ and W½SW¼.

T. 7 N., R. 79 W.,

Sec. 32, SE¼;

Sec. 33, W½SW¼.

T. 5 N., R. 88 W.,

Sec. 12, NW¼ and SW¼.

T. 7 N., R. 88 W.,

Sec. 1, SW¼NW¼, W½SW¼, and SE¼SW¼, and those portions of SE¼NW¼, NE¼SW¼, NW¼SE¼, and SW¼SE¼ lying west of Routt County Road 80A;

Sec. 2, S½NE¼ and SE¼;

Sec. 10, NE¼ and NW¼;

Sec. 11, N½ and SE¼;

Sec. 12, those portions of W½ lying west of Routt County Road 80.

The areas described aggregate 6,354 acres.

If and when the selection is approved and certified to the State, the Clear List may either be subject to or reserve any rights-of-way granted by the BLM. Oil and gas, geothermal, or other leases issued under the authority of the Mineral Leasing Act of 1920 (30 U.S.C 181 et seq.) will remain in effect under the terms and conditions of the leases. Pursuant to 43 CFR 2462.2, publication of this notice of initial classification in the Federal Register segregates the above described lands from all forms of disposal under the public land laws, including the mining laws, except for the form of land disposal specified in this notice of initial classification. However, this notice does not alter the applicability of the public land laws governing the use of the lands under lease, license, or permit, or governing the disposal of their mineral and vegetative resources, other than under the mining laws.

The segregative effect of a classification for this form of disposal will terminate in one of the following ways:

(1) Disposal of the lands.

(2) Publication in the Federal Register of a notice of termination of the classification.

(3) An Act of Congress.

Authority: 43 CFR 2400.

Ruth Welch,
BLM Colorado State Director.

[FR Doc. 2015-26365 Filed 10-15-15; 8:45 am]

BILLING CODE 4310-JB-P